DEPARTMENT OF THE INTERIOR

Bureau of Land Management

[CA-610-03-1610-DU]

Notice of Intent To Designate Routes of Travel and Prepare an Associated Plan Amendment and Environmental Assessment in a Portion of the Northern and Eastern Mojave Desert (NEMO) Planning Area of the California Desert Conservation Area Plan (CDCA) Managed by the Bureau of Land Management

AGENCY: Bureau of Land Management (BLM), Interior.

ACTION: Notice of Intent (NOI) to designate Routes of Travel and prepare associated Plan Amendment and Environmental Assessment (EA).

SUMMARY: This document provides notice that the BLM intends to amend the routes of travel designations in the NEMO area of the CDCA Plan area. The planning area is located in Inyo, San Bernardino, and a small portion of Mono Counties, California. This planning activity encompasses approximately 2.75 million acres of public land. The plan will fulfill the needs and obligations set forth by the National Environmental Policy Act (NEPA), the Federal Land Policy and Management Act (FLPMA), BLM planning regulations, and other BLM management policies. The BLM California State Director recently approved the Record of Decision for Northern and Eastern Mojave Desert (NEMO) Management Plan. NEMO designated Routes of Travel within the Shadow, Ivanpah, and Piute-Fenner Valley Desert Tortoise Conservation Areas and conformed Congressional wilderness areas to the CDCA Plan. Route designations will be amended on the remaining BLM lands within the planning area (approximately 2.75 million acres) in the California Desert Conservation Area with the appropriate NEPA analysis and documentation, consistent with the CDCA Plan and BLM planning regulations (43 CFR 1600 et seq.). Route designations include “open”, “closed” and “limited” and will be in accordance with BLM route designation criteria outlined in 43 CFR 8342.1. The BLM will work collaboratively with interested parties to identify the management decisions that are best suited to local, regional, and national needs and concerns.

DATES: This notice initiates the public scoping process. Comments on issues and planning criteria can be submitted in writing to the address listed below and will be accepted throughout the creation of the Draft Routes of Travel designations. All public meetings will be announced through the local news media, newsletters, and the BLM Web site http://www.ca.blm.gov/cdd/ at least 15 days prior to the event. The minutes and list of attendees for each meeting will be available to the public and open for 30 days to any participant who wishes to clarify the views they expressed.

Public Participation: Public meetings will be held throughout the plan scoping and preparation period. Early participation is encouraged and will help determine the future management of the California Desert District public lands. Dates of scoping meetings are as follows: Monday, May 5, 2003, 4 p.m.-7 p.m., Yucca Valley, CA; Wednesday, May 7, 2003, 4 p.m.-7 p.m., Las Vegas, NV; Monday, May 12, 2003, 4 p.m.-7 p.m., Tecopa, CA; Tuesday, May 13, 2003, 4 p.m.-7 p.m., Ridgecrest, CA; Thursday, May 15, 2003, 4 p.m.-7 p.m., Independence, CA.

FOR FURTHER INFORMATION CONTACT: Roxie Trost, BLM, 2601 Barstow Road, Barstow, CA 92311; (760) 252-6020.

SUPPLEMENTARY INFORMATION: The NEMO planning process began in 1994. The NEMO Plan was approved on December 20, 2002 with the Record of Decision. The document is also available for review on line at http://www.ca.blm.gov/cdd/landuseplanning.html. Within the NEMO planning area, routes of travel were designated for Desert Tortoise Wildlife Management Areas in Shadow, Ivanpah and Piute-Fenner Valleys and surrounding bioregions (about 0.45 million acres). The current plan amendment addresses the remaining area in NEMO. Congressional wilderness areas within the planning area total approximately 1.2 million acres. The remainder of the planning area includes Wilderness Study Areas, the Dumont Dunes Off-Highway Vehicle Open Area and route networks through various multiple-use classes and Areas of Critical Environmental Concern.

Linda Hansen,
District Manager.

[FR Doc. 03-9710 Filed 4-17-03; 8:45 am]

BILLING CODE 4310-40-P